DEPARTMENT OF COMMERCE

International Trade Administration

Notice of Request for Stakeholder Comments on Doing Business in Africa Campaign

AGENCY: International Trade Administration, Department of Commerce.

SUMMARY: The International Trade Administration (ITA) of the U.S. Department of Commerce seeks comments on key stakeholder priorities to be considered in the development and implementation of an initiative to increase U.S. exports to and commercial ties with Africa, the Doing Business in Africa campaign (DBIA campaign), to be led by the Department of Commerce in coordination with the Trade Promotion Coordinating Committee (TPCC). The DBIA campaign was announced on November 28, 2012, in Johannesburg, South Africa, and will advance the goals of the “U.S. Strategy Toward Sub-Saharan Africa,” (Strategy) issued by President Barack Obama June 14, 2012. ITA, in coordination with the TPCC, will consider the information received in response to this notice in developing the DBIA campaign.

DATES: Comments must be received on or before May 3, 2013.

ADDRESSES: Electronic comments are preferred and may be sent to: DBIAComment@trade.gov. Written comments may be sent to: Michael Masserman, 1401 Constitution Avenue NW., Suite 31027, International Trade Administration, Washington, DC 20230. Comments should include a reference to this Federal Register notice.

FOR FURTHER INFORMATION CONTACT: Michael Masserman, Executive Director for Export Policy, Promotion and Strategy, 1401 Constitution Avenue NW., Suite 31027, International Trade Administration, Washington, DC 20230, DBIAcomment@trade.gov, (202) 482-5455.

SUPPLEMENTARY INFORMATION: The Strategy sets out the goal of encouraging U.S. companies to trade with and invest in sub-Saharan Africa, including through the development of a Doing Business in Africa campaign, which will also help advance the President's National Export Initiative. The Doing Business in Africa campaign will harness the resources of the Federal Government to assist U.S. businesses in identifying and seizing opportunities in sub-Saharan Africa and will engage with members of the sub-Saharan African Diaspora in the United States.

Federal agencies will work to encourage U.S. companies—with a focus on small- and medium-sized businesses and African Diaspora-owned businesses—to trade with and invest in Africa through: (1) Targeted partnerships to promote trade with sub-Saharan Africa, including the planned launch later this year of an Africa Global Business Summit Series which will allow U.S. companies to hear directly from U.S. Ambassadors and Senior Commercial Officers about opportunities in the region; (2) Expanded trade promotion programs tailored toward Africa, including targeted trade missions to sub-Saharan countries and enhanced International Buyer Program (IBP) events to bring more African buyer delegations to the United States; (3) Providing enhanced Africa-focused export counseling to U.S. businesses as a result of enhanced training of federal trade specialists who work with businesses across the United States every day on the specific challenges and opportunities in Africa; and (4) The development of a dedicated online Africa Business Portal which will direct U.S. businesses to the federal resources they need to succeed in African markets and presenting export and other commercial opportunities in sub-Saharan Africa.

The Obama Administration has recognized that financing assistance is vital to increasing trade and commercial ties with sub-Saharan Africa. As part of the DBIA campaign, agencies including the Overseas Private Investment Corporation (OPIC), Export-Import Bank (Ex-Im Bank), and U.S. Trade and Development Agency (USTDA) will build upon current efforts, specifically by: (1) Opening the U.S.-Africa Clean Energy Development and Finance Center in Johannesburg, South Africa in 2013 to provide the U.S. private sector, as well as sub-Saharan African developers, with a centralized means to identify and access U.S. government support for clean energy export and investment needs; (2) Advancing the recently announced U.S.-Africa Clean Energy Finance (ACEF) Initiative, a $20 million collaborative financing mechanism developed by the State Department, OPIC, and USTDA to increase support for U.S. businesses and exporters in sub-Saharan Africa's clean energy sector; and (3) Enhancing Ex-Im Bank initiatives, including the Ex-Im Bank's efforts to advance the South African government's South African Renewable Initiative through assistance in financing up to $2 billion in U.S. technologies, products and services to strengthen South Africa's energy sector.

The International Trade Administration is seeking comments on the following topics to aid in further structuring the Doing Business in Africa campaign, which will be led by the Department of Commerce in coordination with the TPCC:

(1) How can the Federal Government help U.S. businesses both identify and seize upon trade and investment opportunities in sub-Saharan Africa?

a. What metric(s) should be used to measure progress?

(2) How can the Federal Government partner with nonprofit organizations, industry associations, local and state governments, and other organizations to help U.S. businesses both identify and seize upon trade and investment opportunities in sub-Saharan Africa?

a. In the short term?

b. Over the next five years?

(3) How can the Federal Government encourage small- and medium-sized businesses and African Diaspora-owned businesses to trade with and invest in sub-Saharan Africa?

(4) If you have experience doing business in Africa, how would you characterize that experience? Did you receive Federal Government assistance, for example from the U.S. & Foreign Commercial Service, and how would you rate that service?

(5) In your experience, what country and sector opportunities should the Federal Government highlight within the African market? If applicable, please provide information on why you have selected these country and sector opportunities for highlighting by the Federal Government.

(6) What information could the Federal Government provide about trade and commercial opportunities in Africa that would be the most helpful, and how would you like to receive or access that information?

(7) What major Africa trade- and/or commerce-focused events does your organization plan to attend or host in 2013?

The U.S. Strategy Toward Sub-Saharan Africa is available at: http://www.gpo.gov/fdsys/pkg/FR-2012-02-14/pdf/2012-3400.pdf. More information on the Doing Business in Africa Campaign is available at http://export.gov/africa/.

The Department of Commerce anticipates a continuing need for input on the Doing Business in Africa campaign. Please feel free to contact DBIAcomment@trade.gov to provide advice and input on the Doing Business in Africa campaign even after the close of the comment period.

Dated: April 10, 2013.
Frank Spector,
Trade Missions Program.

[FR Doc. 2013-08837 Filed 4-15-13; 8:45 am]

BILLING CODE 3510-FP-P